DEPARTMENT OF TRANSPORTATION

Surface Transportation Board

[STB Docket No. AB-501 (Sub-No. 3X)]

Central of Tennessee Railway and Navigation Company, Incorporated—Discontinuance of Service Exemption—In Bastrop, Burnet, Lee, Llano, Travis and Williamson Counties, TX

On March 24, 2000 ¹, Central of Tennessee Railway and Navigation Company, Incorporated, d.b.a. The Longhorn Railway Company (Longhorn), filed with the Surface Transportation Board (Board) a petition under 49 U.S.C. 10502 for exemption from the provisions of 49 U.S.C. 10903 to discontinue service over a rail line owned by Capital Metropolitan Transportation Authority (CMTA) extending between milepost 0.0 west of Giddings, TX, and milepost 154.07 at Llano, TX, including the Marble Falls Branch (6.43 miles), the Scobee Spur (3.3 miles), and the Burnett Spur (.93 miles), a distance of approximately 162 miles in Bastrop, Burnet, Lee, Llano, Travis and Williamson Counties, TX.²

¹ Petitioner's initial filing on March 24, 2000, lacked necessary zip code and station information. A complete petition was not obtained until April 24, 2000. Accordingly, we have treated that date as the actual filing date and the dates for issuance of a final decision and for the filing of any offers of financial assistance in this matter have been extended, respectively to August 12 and August 22, 2000.

² According to petitioner, disputes between CMTA and it resulted in: (1) The filing by Longhorn of a petition for declaratory order alleging and requesting a finding that CMTA is violating its common carrier obligation; (2) termination by CMTA of its operating contract with Longhorn; and (3) the filing by CMTA on March 13, 2000, of a notice of intent to seek an adverse discontinuance of Longhorn's service. Also according to petitioner, however, the parties have recently settled their differences in regard to matters within the jurisdiction of the Board. In fact, in a decision served April 3, 2000, in Central of Tennessee Railway & Navigation Company, Incorporated, d.b.a. The Longhorn Railway Company—Petition for Declaratory Order, STB Finance Docket No. 33820, the Board granted Longhorn's request to withdraw the declaratory order petition with prejudice. Moreover, CMTA's notice of intent to seek adverse discontinuance of Longhorn's service is presumably moot and no application will be filed in light of petitioner's filing here. Finally, we note that in a notice served on April 4, 2000, in Trans-Global Solutions, Inc., d.b.a. Austin Area Terminal Railroad—Operation Exemption—Capital Metropolitan Transportation Authority, STB Finance Docket No. 33860, a new operator has been authorized to replace Longhorn on the line.

The lines traverse U.S. Postal Service Zip Codes 78605, 78611, 78613, 78639, 78641, 78642, 78643, 78650, 78653, 78654, 78701, 78702, 78705, 78717, 78721, 78722, 78723, 78727, 78728, 78729, 78751, 78753, 78756, 78757, 78758, 78759, and 78959. The line includes the stations of Giddings, Hills, Paige, McDade, Butler, Stacks, Elgin, Manor, Milby, Decker, Smoot, Austin Depot, Austin Junction, Buttercrust, Abercrombie, Fromme, McNeil, Rutledge, Whitestone, Leander, Liberty Hill, Bertram, Summit, Burnet, Gandy, DeMarco, Sudduth, Fairland, Scobee, Kingsland.

The line does not contain federally granted rights-of-way. Any documentation in Longhorn's possession will be made available promptly to those requesting it.

Longhorn is proposing to discontinue all of its regulated rail operations. In this situation, the Board does not impose labor protection, except in specifically enumerated circumstances. See Northampton and Bath R. Co.—Abandonment, 354 I.C.C. 784, 785-86 (1978) (Northampton). Therefore, if the Board grants the petition for exemption, in the absence of a showing that one or more of the exceptions articulated in Northampton is present, no labor protective conditions would be imposed.

By issuance of this notice, the Board is instituting an exemption proceeding pursuant to 49 U.S.C. 10502(b). A final decision will be issued by August 12, 2000.

Any offer of financial assistance (OFA) under 49 CFR 1152.27(b)(2) will be due no later than 10 days after service of a decision granting the petition for exemption. Each OFA must be accompanied by a $1,000 filing fee. See 49 CFR 1002.2(f)(25).

This proceeding is exempt from environmental reporting requirements under 49 CFR 1105.6(c) and from historic reporting requirements under 1105.8(b).

All filings in response to this notice must refer to STB Docket No. AB-501 (Sub-No. 3X) and must be sent to: (1) Surface Transportation Board, Office of the Secretary, Case Control Unit, 1925 K Street, NW, Washington, DC 20423-0001; and (2) Thomas F. McFarland, Jr., McFarland and Herman, 20 North Wacker Dr., Suite 1330, Chicago, IL 60602-2902.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

Board decisions and notices are available on our website at “WWW.STB.DOT.GOV.”

Decided: April 25, 2000.
By the Board, Joseph H. Dettmar, Acting Director, Office of Proceedings.
Vernon A. Williams,
Secretary.

[FR Doc. 00-10751 Filed 4-27-00; 8:45 am]

BILLING CODE 4915-00-P